ENVIRONMENTAL PROTECTION AGENCY

[FRL-9985-89-OA]

Meetings of the Small Communities Advisory Subcommittee (SCAS) and the Local Government Advisory Committee (LGAC)

AGENCY: Environmental Protection Agency (EPA).

ACTION: Notice.

SUMMARY: The Small Communities Advisory Subcommittee (SCAS) will meet via teleconference on Tuesday, November 14, 2018 at 4 p.m.-4:30 p.m. (ET). The Subcommittee will discuss recommendations regarding the Clean Water Act 2015 Waters of the United States Rule and per- and polyfluoroalkyl substances (PFAS) and the impacts to small communities. This is an open meeting and all interested persons are invited to participate. The Subcommittee will hear comments from the public between 4:15 p.m.-4:20 p.m. Individuals or organizations wishing to address the Subcommittee will be allowed a maximum of five minutes to present their point of view. Also, written comments should be submitted electronically to Mercurio.Cristina@epa.gov. Please contact the Designated Federal Officer (DFO) at (202) 564-6481 to schedule a time on the agenda. Time will be allotted on a first-come first-serve basis, and the total period for comments may be extended if the number of requests for presentations requires it.

ADDRESSES: EPA's Small Community Advisory Subcommittee meetings will be held via teleconference. Meeting summaries will be available after the meeting online at https://www.epa.gov/ocir/small-community-advisory-subcommittee-scas and can be obtained by written request to the DFO.

FOR FURTHER INFORMATION CONTACT: Small Community Advisory Subcommittee (SCAS) contact Cristina Mercurio at (202) 564-6481 or email at Mercurio.Cristina@epa.gov.

INFORMATION SERVICES FOR THOSE WITH DISABILITIES: For information on access or services for individuals with disabilities, please contact Cristina Mercurio at (202) 564-6481 or Mercurio.Cristina@epa.gov. To request accommodation of a disability, please request it 10 days prior to the meeting, to give EPA as much time as possible to process your request.

The Local Government Advisory Committee (LGAC) will meet via teleconference on Tuesday, November 14, 2018, 4:30 p.m.-5:30 p.m. (ET). The Committee will discuss recommendations of the subcommittee and LGAC workgroups on per- and polyfluoroalkyl substances (PFAS) and the Clean Water Act 2015 Waters of the United States Rule. This is an open meeting and all interested persons are invited to participate. The Committee will hear comments from the public between 5 p.m.-5:10 p.m. (ET). Individuals or organizations wishing to address the Committee will be allowed a maximum of five minutes to present their point of view. Also, written comments should be submitted electronically to Eargle.Frances@epa.gov. Please contact the Designated Federal Officer (DFO) at the number listed below to schedule a time on the agenda. Time will be allotted on a first-come first-serve basis, and the total period for comments may be extended if the number of requests for presentations requires it.

ADDRESSES: EPA's Local Government Advisory Committee meetings will be held via teleconference. Meeting summaries will be available after the meeting online at www.epa.gov/ocir/scas_lgac/lgac_index.htm and can be obtained by written request to the DFO.

FOR FURTHER INFORMATION CONTACT: Local Government Advisory Committee (LGAC) contact Frances Eargle at (202) 564-3115 or email at Eargle.Frances@epa.gov.

INFORMATION SERVICES FOR THOSE WITH DISABILITIES: For information on access or services for individuals with disabilities, please contact Frances Eargle at (202) 564-3115 or Eargle.Frances@epa.gov. To request accommodation of a disability, please request it 10 days prior to the meeting, to give EPA as much time as possible to process your request.

Dated: October 18, 2018.
M. Arnita Hannon Christmon,
Intergovernmental Liaison, Office of Congressional and Intergovernmental Relations.

[FR Doc. 2018-23573 Filed 10-26-18; 8:45 am]

BILLING CODE 6560-50-P